DEPARTMENT OF JUSTICE

Notice of Lodging of Partial Consent Decree Under the Comprehensive Environmental Response, Compensation, and Liability Act of 1980 (“CERCLA”)

Consistent with Section 122(d) of the Comprehensive Environmental Response, Compensation, and Liability Act of 1980, as amended (“CERCLA”), 42 U.S.C. 9622(d), and 28 CFR 50.7, notice is hereby given that on December 14, 2006, a proposed Partial Consent Decree with Colgate-Palmolive Company in United States v. American Cyanamid, et al., Nos. 1:02-CV-109-1 and 1:03-CV-122-3 (M.D. Ga.), was lodged with the United States District Court for the Middle District of Georgia.

In this action, the United States seeks to recover from various defendants, pursuant to Sections 107 and 113(g)(2) of CERCLA, 42 U.S.C. 9607 and 9613(g)(2), the costs incurred and to be incurred by the United States in responding to the release and/or threatened release of hazardous substances at and from the Stoller Chemical Company/Pelham Phosphate Company Site (“Site”) in Pelham, Mitchell County, Georgia. Under the proposed Partial Consent Decree, Defendant Colgate-Palmolive Company will pay $2,850,000 to the Hazardous Substances Superfund in reimbursement of the costs incurred by the United States at the Site.

The Department of Justice will receive for a period of thirty (30) days from the date of this publication comments relating to the Partial Consent Decree. Comments should be addressed to the Assistant Attorney General, Environment and Natural Resources Division, P.O. Box 7611, U.S. Department of Justice, Washington, DC 20044-7611, and should refer to United States v. American Cyanamid, et al., (M.D. Ga) (Partial Consent Decree with Colgate-Palmolive Company, DOJ Ref. No. 9011-3-07602).

The Partial Consent Decree may be examined at the Office of the United States Attorney, Middle District of Georgia, Cherry St. Galleria, 4th Floor, 433 Cherry St., Macon, GA 31201 ((478) 752-3511, and at U.S. EPA Region 4, Atlanta Federal Center, 61 Forsyth Street, SW., Atlanta, Georgia 30303 (contact Bonnie Sawyer, Esq. (404) 562-9539). During the public comment period, the Partial Consent Decree may also be examined on the following Department of Justice Web site, http://www.usdoj.gov/enrd/Consent_Decrees.html. a copy of the Partial Consent Decree may also be obtained by mail from the Consent Decree Library, U.S. Department of Justice, P.O. Box 7611, Washington, DC 20044-7611 or by faxing or e-mailing a request to Tonia Fleetwood (tonia.fleetwood@usdoj.gov), fax no. (202) 514-0097, phone confirmation number (202) 514-1547. In requesting a copy from the Consent Decree Library, please refer to United States v. American Cyanamid, et al., (M.D. Ga.) (Partial Consent Decree with Colgate-Palmolive Company, DOJ Ref. No. 90-11-3-07602), and enclose a check in the amount of $5.50 (25 cents per page reproduction cost) payable to the U.S. Treasury or, if by e-mail or fax, forward a check in that amount to the Consent Decree Library at the stated address.

Henry S. Friedman,
Assistant Section Chief, Environmental Enforcement Section, Environment and National Resources Division.

[FR Doc. 06-9920 Filed 12-28-06; 8:45 am]

BILLING CODE 4410-15-M